DEPARTMENT OF VETERANS AFFAIRS

38 CFR Part 4

RIN 2900-AO19

Schedule for Rating Disabilities: The Hematologic and Lymphatic Systems

Correction

In rule 2018-23517 beginning on page 54250 in the issue of Monday, October 29, 2018, make the following correction:

§ 4.117 [Corrected]

In § 4.117, On page 54255, in the table, entry 7703 should read as follows:

7703 Leukemia (except for chronic myelogenous leukemia):
When there is active disease or during a treatment phase | 100
Otherwise rate residuals under the appropriate diagnostic code(s)
Chronic lymphocytic leukemia or monoclonal B-cell lymphocytosis (MBL), asymptomatic, Rai Stage 0 | 0
Note (1): A 100 percent evaluation shall continue beyond the cessation of any surgical therapy, radiation therapy, antineoplastic chemotherapy, or other therapeutic procedures. Six months after discontinuance of such treatment, the appropriate disability rating shall be determined by mandatory VA examination. Any change in evaluation based upon that or any subsequent examination shall be subject to the provisions of § 3.105(e) of this chapter. If there has been no recurrence, rate on residuals
Note (2): Evaluate symptomatic chronic lymphocytic leukemia that is at Rai Stage I, II, III, or IV the same as any other leukemia evaluated under this diagnostic code
Note (3): Evaluate residuals of leukemia or leukemia therapy under the appropriate diagnostic code(s). Myeloproliferative Disorders: (Diagnostic Codes 7704, 7718, 7719)

[FR Doc. C1-2018-23517 Filed 10-31-18; 8:45 am]

BILLING CODE 1301-00-D